DEPARTMENT OF DEFENSE

Department of the Army

[Docket ID: USA-2023-HQ-0013]

Submission for OMB Review; Comment Request

AGENCY: U.S. Army Corps of Engineers (USACE), Department of the Army, Department of Defense (DoD).

ACTION: 30-Day information collection notice.

SUMMARY: The DoD has submitted to the Office of Management and Budget (OMB) for clearance the following proposal for collection of information under the provisions of the Paperwork Reduction Act.

DATES: Consideration will be given to all comments received by February 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, (571) 372-0460, whs.mc-alex.esd.mbx.dd-dod-information-collections@mail.mil.

SUPPLEMENTARY INFORMATION:

Title; Associated Form; and OMB Number: Silver Jackets Program Nomination and Awards; ENG Form 6128; OMB Control Number 0710-0023.

Type of Request: Revision.

Number of Respondents: 54.

Responses per Respondent: 1.

Annual Responses: 54.

Average Burden per Response: 20 minutes.

Annual Burden Hours: 18.

Needs and Uses: The information collection request is necessary to obtain input and feedback from our state government partners regarding the performance and achievement of state-led Silver Jackets teams. Through the National Flood Risk Management Program, USACE supports the Silver Jackets Program, which has teams in all states and several territories, bringing together multiple state, federal, local, and tribal agencies to learn from one another and work together to reduce risk from floods and other natural hazards. The ENG Form 6128, “Silver Jackets State Team of the Year,” provides the vehicle for Silver Jackets teams to nominate their fellow teams for consideration for the Silver Jackets Team of the Year Award. The responses to this information collection are used to recognize excellent work by teams, thank the team partners for their efforts, and provide incentives for future team participation.

Affected Public: Individuals or households; State, Local or Tribal Government.

Frequency: Annually.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Lane Purvis.

Requests for copies of the information collection proposal should be sent to Mr. Purvis at whs.mc-alex.esd.mbx.dd-dod-information-collections@mail.mil.

Dated: January 23, 2024.
Aaron T. Siegel,
Alternate OSD Federal Register Liaison Officer, Department of Defense.

[FR Doc. 2024-01652 Filed 1-26-24; 8:45 am]

BILLING CODE 6001-FR-P